DEPARTMENT OF TRANSPORTATION

Federal Aviation Administration

14 CFR Part 119

Office of the Secretary

14 CFR Part 234

[Docket No. OST-2005-20331]

RIN 2105-AD48

Reports by Carriers on Incidents Involving Animals During Air Transport

AGENCIES: Federal Aviation Administration, Office of the Secretary, Department of Transportation.

ACTION: Final rule.

SUMMARY: The Department of Transportation (Department or DOT) is making a technical change to the August 11, 2003, final rule implementing section 710 of the Wendell H. Ford Aviation Investment and Reform Act for the 21st Century (AIR-21) to require the reporting airlines to submit the required information on the loss, injury, or death of an animal during air transport to DOT's Aviation Consumer Protection Division rather than the Animal and Plant Health Inspection Service (APHIS) of the United States Department of Agriculture (USDA) and, accordingly, is making the rule part of DOT's economic regulations.

DATES: This rule becomes effective March 16, 2005.

FOR FURTHER INFORMATION CONTACT: Blane A. Workie, Supervisory Trial Attorney, Office of the Assistant General Counsel for Aviation Enforcement and Proceedings, Office of the General Counsel, 400 7th Street, SW., Room 10424, Washington, DC 20590, 202-366-9342 (voice), 202-366-7153 (fax), or blane.workie@ost.dot.gov (e-mail).

SUPPLEMENTARY INFORMATION: On August 11, 2003, the Department, through its Federal Aviation Administration (FAA), issued a final rule implementing section 710 of AIR-21 requiring air carriers that provide scheduled passenger air transportation to submit a monthly report to USDA's APHIS on any incident involving the loss, injury or death of an animal during air transportation provided by the air carrier (68 FR 47798). Under the rule, the reports would then be shared with DOT, which would publish the data, as required by AIR-21, in a format similar to the manner in which it publishes consumer complaints and incident reports. However, issues arose regarding whether APHIS had the capability to accept such information directly from the carriers and pass it on to DOT. In order to resolve any such issues, the Department has decided to make a technical change in the rule so that airlines will submit the required information directly to DOT's Aviation Consumer Protection Division (ACPD), rather than APHIS. The ACPD will then publish the required data on animal transport and share the data with APHIS. This OST final rule amends the August 11, 2003, final rule accordingly. Finally, as a technical matter, the rule is being relocated from 14 CFR Chapter I to 14 CFR Chapter II where other requirements overseen by ACPD are located.

It is important to note that this rule does not change the type and manner of information that air carriers must submit but simply designates DOT's ACPD as the office that would receive the monthly reports directly from air carriers on the loss, injury or death of an animal during air transport. The information required to be submitted to the ACPD should be sent preferably in Word format via e-mail to animalreports@ost.dot.gov or to the following address: Aviation Consumer Protection Division, Room 4107, U.S. Department of Transportation, 400 7th Street, SW., Washington, DC 20590.

Regulatory Analysis and Notices

A. Executive Order 12866 (Regulatory Planning and Review) and DOT Regulatory Policies and Procedures

This rulemaking is not “significant” under Executive Order 12866 or the Department of Transportation Regulatory Policies and Procedures and was not reviewed by the Office of Management and Budget. Because this rule merely changes where information should be filed, there are no costs associated with this rule.

B. Executive Order 13132 (Federalism)

This final rule has been analyzed in accordance with the principles and criteria contained in Executive Order 13132 (“Federalism”). This final rule does not adopt any regulation that (1) has substantial direct effects on the States, the relationship between the national government and the States, or the distribution of power and responsibilities among the various levels of government; (2) imposes substantial direct compliance costs on State and local governments; or (3) preempts State law. Therefore, the consultation and funding requirements of Executive Order 13132 do not apply.

C. Executive Order 13084

This final rule has been analyzed in accordance with the principles and criteria contained in Executive Order 13084 (“Consultation and Coordination with Indian Tribal Governments”). Because this final rule does not significantly or uniquely affect the communities of the Indian tribal governments and does not impose substantial direct compliance costs, the funding and consultation requirements of Executive Order 13084 do not apply.

D. Regulatory Flexibility Act

The Regulatory Flexibility Act (5 U.S.C. 601 et seq.) requires an agency to review regulations to assess their impact on small entities unless the agency determines that a rule is not expected to have a significant impact on a substantial number of small entities. This rule will have no costs because it merely changes where the reports will be filed. We hereby certify this final rule will not have a significant economic impact on a substantial number of small businesses.

E. Paperwork Reduction Act

As required by the Paperwork Reduction Act of 1995, DOT has submitted the Information Collection Requests (ICRs) abstracted below to the Office of Management and Budget (OMB). Before OMB decides whether to approve these proposed collections of information and issue a control number, the public must be provided 30 days to comment. Organizations and individuals desiring to submit comments on the collection of information requirements should direct them to the Office of Management and Budget, Attention: Desk Officer for the Office of the Secretary of Transportation, Office of Information and Regulatory Affairs, Washington, DC 20503, and should also send a copy of their comments to: Department of Transportation, Aviation Enforcement and Proceedings, Office of the General Counsel, 400 7th Street, SW., Room 4116, Washington, DC 20590. OMB is required to make a decision concerning the collection of information requirements contained in this rule between 30 and 60 days after publication of this document in the Federal Register. Therefore, a comment to OMB is best assured of having its full effect if OMB receives it within 30 days of publication.

We will respond to any OMB or public comments on the information collection requirements contained in this rule. OST may not impose a penalty on persons for violating information collection requirements which do not display a current OMB control number, if required. OST intends to obtain current OMB control numbers for any new information collection requirements resulting from this rulemaking action. The OMB control number, when assigned, will be announced by separate notice in the Federal Register.

The ICRs were previously published in the Federal Register (68 FR 47627). Neither the assumptions upon which these calculations are based nor the information collection burden hours have changed. The title, description, respondent description of the information collections and the annual recordkeeping and periodic reporting burden are stated below.

Title: Reports by Carriers on Incidents Involving Animals During Air Transport.

Type of Request: New Collection.

Description: Congress mandated this rule as part of Public Law 106-810, to require air carriers to track and report incidents of loss, injury, or death of a pet during transport. The information gathered and reported by the air carriers will provide the public with valuable information when choosing an air carrier to use when traveling with a pet.

Respondents: Air Carriers that transport pets—30 Transport Air Carriers.

Frequency: 12 reports to DOT per year for each respondent.

Estimated Annual Burden Hours: An estimated 360 hours annually.

F. Unfunded Mandates Reform Act

The Department has determined that the requirements of Title II of the Unfunded Mandates Reform Act of 1995 do not apply to this rulemaking.

G. Trade Impact Assessment

The Trade Agreement Act of 1979 prohibits Federal agencies from engaging in any standards or related activity that create unnecessary obstacles to the foreign commerce of the United States. The statute also requires consideration of international standards and where appropriate, that they be the basis for U.S. standards. In addition, it is the policy of the Administration to remove or diminish, to the extent feasible, barriers to international trade, including both barriers affecting the export of American goods and services to foreign countries and barriers affecting the import of foreign goods and services into the U.S. In accordance with the above statute and policy, OST has assessed the potential effect of this rulemaking and has determined that it will have only a domestic impact and therefore no effect on any trade-sensitive activity.

H. Energy Impact

The energy impact of the final rule has been assessed in accordance with the Energy Policy and Conservation Act (EPCA), Pub. L. 94-163 as amended (42 U.S.C. 6362). We have determined that the final rule is not a major regulatory action under the provisions of the EPCA.

List of Subjects

14 CFR Part 119

Administrative practice and procedure, Air carriers, Aircraft, Aviation safety, Charter flights, Reporting and recordkeeping requirements.

14 CFR Part 234

Air carriers, Consumer protection, Reporting and recordkeeping requirements.

For the reasons set forth in the preamble, 14 CFR chapters I and II are amended as follows:

Chapter I—Federal Aviation Administration, Department of Transportation

PART 119—CERTIFICATION: AIR CARRIERS AND COMMERCIAL OPERATORS

1. The authority citation for Part 119 is revised to read as follows:

Authority: 49 U.S.C. 106(g), 1153, 40101, 40102, 40103, 40113, 44105, 44106, 44111, 44701-44717, 44722, 44901, 44903, 44904, 44906, 44912, 44914, 44936, 44938, 46103, 46105.

§ 119.72 [Removed]

2. Section 119.72 is removed.

Chapter II—Office of the Secretary, Department of Transportation

PART 234—AIRLINE SERVICE QUALITY PERFORMANCE REPORTS

3. The authority citation for Part 234 is revised to read as follows:

Authority: 49 U.S.C. 329 and chapters 401 and 417.

4. Section 234.13 is added to read as follows:

§ 234.13 Reports by air carriers on incidents involving animals during air transport.

(a) Any air carrier that provides scheduled passenger air transportation shall, within 15 days of the end of the month to which the information applies, submit to the United States Department of Transportation's Aviation Consumer Protection Division a report on any incidents involving the loss, injury, or death of an animal during air transport provided by the air carrier.

(b) The report shall be made in the form and manner set forth in reporting directives issued by the Deputy General Counsel for the U.S. Department of Transportation and shall contain the following information:

(1) Carrier and flight number;

(2) Date and time of the incident;

(3) Description of the animal, including name, if applicable;

(4) Identification of the owner(s) and/or guardian of the animal;

(5) Narrative description of the incident;

(6) Narrative description of the cause of the incident;

(7) Narrative description of any corrective action taken in response to the incident; and

(8) Name, title, address, and telephone number of the individual filing the report on behalf of the air carrier.

(c) For purposes of this section:

(1) The air transport of an animal includes the entire period during which an animal is in the custody of an air carrier, from check-in of the animal prior to departure until the animal is returned to the owner or guardian of the animal at the final destination of the animal; and

(2) Animal means any warm or cold blooded animal which, at the time of transportation, is being kept as a pet in a family household in the United States.

Issued in Washington, DC, on February 4, 2005.
Norman Y. Mineta,
Secretary.

[FR Doc. 05-2755 Filed 2-11-05; 8:45 am]

BILLING CODE 4910-62-P